DEPARTMENT OF DEFENSE

Department of The Army

Second Record of Decision (ROD) of the Final Environmental Impact Statement (FEIS) on the Disposal and Reuse of the Stratford Army Engine Plant (SAEP), Stratford, CT

AGENCY: Department of The Army, DoD.

ACTION: Notice of availability.

SUMMARY: The Department of The Army announces the availability of the second ROD of the FEIS on the Disposal and Reuse of the Stratford Army Engine Plant, in accordance with the Defense Base Closure and Realignment Act of 1990, Pub. L. 101-510, as amended.

ADDRESSES: A copy of this ROD may be obtained by writing to Mrs. Shirley Vance, U.S. Army Materiel Command, ATTN: AMCIS-B, 5001 Eisenhower Avenue, Alexandria, VA 22333-0001. Copies of the FEIS may be obtained by writing to Mr. Joe Hand, Corps of Engineers, Mobile District, ATTN: PD-EC, PO Box 2288, Mobile, AL 36628-0001.

FOR FURTHER INFORMATION CONTACT: Mrs. Shirley Vance by facsimile at (703) 617-6447.

SUPPLEMENTARY INFORMATION: In the ROD, The Army concludes that the FEIS adequately addresses the impacts of property disposal and documents its decision to transfer the remaining approximately 4 acres of SAEP property as encumbered. The ROD concludes that approximately 4 acres remaining of the 75-acre SAEP property will be conveyed subject to restrictions, identified in the FEIS, that relate to the following: easements for avigation, other easements and rights-of-way, floodplains, a groundwater use prohibition, floodplains obligations, wetlands, land use restrictions, remedial activities and the requirement for a right of reentry for environmental cleanup. The Army's intent under the ROD is to transfer approximately 4 acres remaining of the SAEP property to the City of Bridgeport for airport purposes. If the City of Bridgeport is unable to acquire the necessary permits and approvals for their proposed activity on the approximately 4-acres within a reasonable period of time, The Army will convey the property to the SAEP LRA. The Army will impose deed restrictions or other requirements to ensure safety and protection of human health and the environment.

The Army has taken all practicable measures to avoid or minimize environmental harm associated with its preferred alternative of encumbered property disposal. Mitigation measures for reuse activities are identified in the FEIS.

Dated: November 5, 2001.
Raymond J. Fatz,
Deputy Assistant Secretary of the Army (Environment, Safety and Occupational Health) OASA(I&E).

[FR Doc. 01-28252 Filed 11-8-01; 8:45 am]

BILLING CODE 3710-08-M